DEPARTMENT OF THE INTERIOR

Bureau of Reclamation

Information Collection Activities; Proposed Collection; Comment Request

AGENCY: Bureau of Reclamation, Interior.

ACTION: Notice and request for comments.

SUMMARY: In accordance with the Paperwork Reduction Act to 1995, this notice announces that the Bureau of Reclamation (Reclamation) intends to seek approval of the following proposed new information collection: Ririe Reservoir Recreation Survey. Before submitting the information collection request to the Office of Management and Budget for approval, Reclamation is soliciting comments on specific aspects of the information collection.

DATES: Comments on this notice must be received by February 11, 2002.

ADDRESSES: Address all comments concerning this notice to Bureau of Reclamation, Pacific Northwest Regional Office, Attention Ms. Vicki Kellerman, 1150 N. Curtis Road, Suite 100, Boise, Idaho 83706.

FOR FURTHER INFORMATION CONTACT: For further information or a copy of the proposed collection of information form, contact Ms. Vicki Kellerman at (208) 378-5326.

SUPPLEMENTARY INFORMATION: Comments are invited on: (a) Whether the proposed collection of information is necessary for the proper performance of Reclamation's functions, including whether the information will have practical use; (b) the accuracy of Reclamation's estimated time and cost burdens of the proposed collection of information, including the validity of the methodology and assumptions used; (c) ways to enhance the quality, use, and clarity of the information to be collected; and (d) ways to minimize the burden of the collection of information on respondents, including increased use of automated collection techniques or other forms of information technology. Consideration will be given to comments and suggestions submitted with 60 days of this publication.

Title: Ririe Reservoir Recreation Survey.

Abstract: Ririe Reservoir is located on Willow Creek, a minor tributary of the Snake River in Bonneville County of eastern Idaho. Ririe Reservoir has recreation attributes that serve Idaho Falls, Ririe, and southeastern Idaho, as well as out-of-state visitors. Primary summer activities consist of boating, swimming, fishing, camping, and picnicking. In general the survey will be used to determine carrying capacity for recreation uses on both Reclamation lands and water, and necessary management actions related to recreation, as identified in the Resource Management Plan for this reservoir. Further, the survey will determine if and when boat ramps, docks, parking, and other facilities need to be expanded for recreation during the next 10 years and if the expansion can be accomplished without detriment to natural, recreational, and cultural resources.

Description of respondents: Ririe Reservoir recreationists from Idaho Falls, Ririe, southeastern Idaho, and an indeterminate diversity of out-of-state visitors to Ririe Reservoir.

Frequency: This is a one-time voluntary survey.

Estimated completion time: An average of 30 minutes per respondent.

Annual responses: 250 respondents.

Annual burden hours: 125.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: November 20, 2001.
Jerrold D. Gregg,
Snake River Office, Area Manager.

[FR Doc. 01-30774 Filed 12-12-01; 8:45 am]

BILLING CODE 4310-MN-M